DEPARTMENT OF ENERGY

Federal Energy Regulatory Commission

Notice of Intent To Prepare a Multi-Project Environmental Assessment and Notice of Paper Scoping and Soliciting Scoping Comments

July 23, 2002.

Take notice that the following hydroelectric applications have been filed with Commission and are available for public inspection:

a. Type of Applications: New Minor Licenses.

b. Project Nos.: Enterprise Mill Project, P-2935-015, Sibley Mill Project, P-5044-008.

c. Dates filed: Enterprise Mill Project, September 24, 2001, Sibley Mill Project, April 2, 2001.

d. Applicants: Enterprise Mill Project, Enterprise Mill, LLC, Sibley Mill Project, Avondale Mills Inc.

e. Name of Projects: Enterprise Mill Project, Sibley Mill Project.

f. Location: On the Augusta Canal about 5 and 6 miles downstream of the Augusta Canal diversion dam, adjacent to the Savannah River, Richmond County, Augusta, GA. The projects are two of three hydropower projects located in the Augusta Canal. The projects do not affect Federal lands.

g. Filed Pursuant to: Federal Power Act, 16 USC 791(a)—825(r).

h. Applicant Contact: Enterprise Mill Project, Beth E. Harris, Project Engineer, CHI Energy, Inc., P.O. Box 8597, Greenville, SC 29604, (864) 281-9630; Sibley Mill Project, Mr. J. H. Vaughn, III Avondale Mills Inc., P.O. Box 128, Graniteville, SC 29829, (803) 663-2116.

i. FERC Contact: Monte TerHaar, (202) 219-2768 or monte.terhaar@ferc.gov.

j. Deadline for filing scoping comments: 30 days from issuance date of this notice.

All documents (original and eight copies) should be filed with: Magalie R. Salas, Secretary, Federal Energy Regulatory Commission, 888 First Street, NE, Washington, DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site (http://www.ferc.gov) under the “e-Filing” link.

k. This application is not ready for environmental analysis at this time.

l. Project Descriptions: Enterprise Mill: The existing Enterprise Mill Hydroelectric Project consists of: (1) Intake works including two steel sliding, vertical lift intake gates; (2) primary and secondary steel trash racks; (3) two 300-foot-long, 8-foot-diameter penstocks; (4) two vertical shaft turbine/generator units with an installed capacity of 1.2 megawatts and a rated maximum discharge of 590 cfs, located inside the reinforced concrete and masonry Enterprise Mill structure; (5) an underground 350-foot-long tailrace, and open 500-foot-long tailrace section returning flow to the Augusta Canal, and (6) appurtenant facilities. There is no dam or impoundment, as approximately 580 cfs of water is withdrawn from the Augusta Canal when operating at full capacity. Developed head is approximately 30 feet. The applicant estimates that the annual generation would be between 5,000 and 8,000 megawatthours (MWh). Generated power is utilized within the applicant's Enterprise Mill which houses residential and commercial tenants, and excess power will be sold to Georgia Power Company. No new facilities are proposed.

Sibley Mill: The existing Sibley Mill Project consists of: (1) Intake works including four steel diversion gates on a 50-foot-long by 15-foot-high intake structure equipped with 1-inch trashracks; (2) a concrete headrace 290 feet long, 42 feet wide, and 15 feet deep; (3) a brick powerhouse; (4) three vertical shaft Francis turbine/generator units with an installed capacity of 2.475 MW; (5) an open tailrace 350 foot long, 30 feet wide, and 38 feet deep; and (6) appurtenant facilities. There is no dam or impoundment, as approximately 936 cfs of water is withdrawn from the Augusta Canal when operating at full capacity. The applicant estimates that the total average annual generation would be 11,000 MWh. All generated power is utilized within the industrial manufacturing facility in the Sibley Mill. No new facilities are proposed.

m. A copy of the application is on file with the Commission and is available for public inspection. This filing may also be viewed on the web at http://www.ferc.gov using the “RIMS” link—select “Docket #” and follow the instructions (call 202-208-2222 for assistance). A copy is also available for inspection and reproduction at the address in item g above.

n. Scoping Process: Scoping is intended to advise all parties regarding the proposed scope of the EA and to seek additional information pertinent to this analysis. The Commission intends to prepare one Environmental Assessment (EA) for the Enterprise Mill Project and Sibley Mill Project in accordance with the National Environmental Policy Act. The EA will consider both site-specific and cumulative environmental impacts and reasonable alternatives to the proposed action. Should substantive comments requiring reanalysis be received on the NEPA document, we would consider preparing a subsequent NEPA document.

At this time, the Commission staff does not anticipate holding formal public or agency scoping meetings near the project site. Instead, staff will conduct paper scoping.

A Scoping Document (SD) outlining the subject areas to be addressed in the EA were distributed to the parties on the Commission's mailing list. Copies of the SD may be viewed on the web at http://www.ferc.gov using the “RIMS” link, select “Docket #” and follow the instructions (call 202-208-2222 for assistance).

As part of scoping the staff will: (1) Summarize the environmental issues tentatively identified for analysis in the EA; (2) solicit from comments all available information, especially quantifiable data, on the resources at issue; (3) encourage comments from experts and the public on issues that should be analyzed in the EA, including viewpoints in opposition to, or in support of, the staff's preliminary views; (4) determine the resource issues to be addressed in the EA; and (5) identify those issues that require a detailed analysis, as well as those issues that do not require a detailed analysis.

Consequently, interested entities are requested to file with the Commission any data and information concerning environmental resources and land uses in the project area and the subject project's impacts to the aforementioned.

O. The preliminary schedule for preparing the subject EA is as follows:

Milestone | Target date
Issue Scoping Document 1 (Paper Scoping) | July/August 2002.
Additional Information (if needed) | October 2002.
Issue Acceptance Letter | October 2002.
Issue Notice of Ready for Environmental Analysis | December 2002.
Deadline for Filing Agency Recommendations | February 2003.
Issue Notice of availability of EA | April 2003.
Public Comments on EA Du | May 2003.
Initiate 10(j) Process | June 2003.
Ready for Commission decision on the application | September 2003.

Linwood A. Watson, Jr.,
Deputy Secretary.

[FR Doc. 02-19039 Filed 7-26-02; 8:45 am]

BILLING CODE 6717-01-P